DEPARTMENT OF STATE

22 CFR Part 41

[Public Notice 10425]

RIN 1400-AD17

Visas: Documentation of Nonimmigrants Under the Immigration and Nationality Act, as Amended

AGENCY: Department of State.

ACTION: Final rule.

SUMMARY: As a result of this rule, the Department of State finalizes without change a final rule establishing that a passport and a visa is required of a British, French, or Netherlands national, or of a national of Antigua, Barbados, Grenada, Jamaica, or Trinidad and Tobago, who has residence in British, French, or Netherlands territory located in the adjacent islands of the Caribbean area, or has residence in Antigua, Barbados, Grenada, Jamaica, or Trinidad and Tobago, if the alien is proceeding to the United States as an agricultural worker. In light of past experience, and to promote consistency of treatment across H-2A agricultural workers, prudent border management requires that these temporary workers obtain a visa, which already is required of most other H-2A agricultural workers. The previous rule created a vulnerability by allowing temporary workers from these countries to enter the United States without a visa. As a consequence of the Department of Homeland Security (DHS) revising its regulations in parallel with State Department actions, temporary workers from these countries will continue to need H-2A visas to enter the United States.

DATES: The rule is effective on August 6, 2018.

FOR FURTHER INFORMATION CONTACT: U.S. Department of State, Office of Legislation and Regulations, CA/VO/L/R, 600 19th Street NW, Washington, DC 20522, VisaRegs@state.gov.

SUPPLEMENTARY INFORMATION: On February 4, 2016, the Department of State (Department) published an interim final rule that would require a British, French, or Netherlands national, or a national of Antigua, Barbados, Grenada, Jamaica, or Trinidad and Tobago, who has a residence in British, French, or Netherlands territory located in the adjacent islands of the Caribbean area, or has residence in Antigua, Barbados, Grenada, Jamaica, or Trinidad and Tobago, to obtain a passport and visa if the alien is proceeding to the United States as an agricultural worker. A minor correction was published on February 12, 2016.

For further information about this rulemaking, please see the interim final rule, published at 81 FR 5906 and correction, published at 81 FR 7454.

Analysis of Comments: Public comments were due on April 4, 2016. The Department received three comments. One comment supported the rule as a necessary security measure. The Department will not make any changes in response to this comment. The remaining two comments were not responsive to the rulemaking. One comment was critical of United States immigration policies gemerally, and the other indicated support for the rule but focused on issues related to domestic agricultural concerns. Accordingly, the rule is final as published.

Regulatory Findings

The Regulatory Findings included in the interim final rule are incorporated herein.

Executive Order 12866 and 13771

OMB has designated this rule “not significant” under E.O. 12866. This rule is not subject to the requirements of E.O. 13771 (82 FR 9339, February 3, 2017) because this rule is not significant under E.O. 12866 .

The costs of this rulemaking are discussed in the companion DHS rule, RIN 1651-AB09, included elsewhere in this edition of the Federal Register. That discussion is incorporated by reference herein. The Department has reviewed the costs and benefits of this rule to ensure its consistency with the regulatory philosophy and principles set forth in Executive Order 12866 and has determined that the benefits of this rule justify its costs.

Accordingly, the interim rule amending 22 CFR part 41 which was published at 81 FR 5906 on February 4, 2016, is adopted as final without change.

Dated: June 29, 2018.
Carl C. Risch,
Assistant Secretary, Bureau of Consular Affairs, Department of State.

[FR Doc. 2018-14513 Filed 7-5-18; 8:45 am]

BILLING CODE 4710-06-P